DEPARTMENT OF LABOR

Occupational Safety and Health Administration

[Docket No. OSHA-2021-0010]

Federal Advisory Council on Occupational Safety and Health

AGENCY: Occupational Safety and Health Administration (OSHA), Labor.

ACTION: Extension of comment period.

SUMMARY: The Secretary of Labor (Secretary) invites interested parties to submit nominations for individuals to serve on the Federal Advisory Council on Occupational Safety and Health (FACOSH). OSHA is extending the deadline for nominations to serve on FACOSH from November 22, 2021 to January 31, 2022.

DATES: Nominations for individuals to serve on the Council must be submitted electronically by January 31, 2022.

ADDRESSES: People interested in being nominated for the Council are encouraged to review the Federal Register notice on nominations for membership published on October 22, 2021 (86 FR 58693) and submit the requested information by January 31, 2022. Nominations may be submitted, including attachments, by the following method:

Electronically: You may submit nominations, including attachments, electronically into Docket No. OSHA-2021-0010 at http://www.regulations.gov, which is the Federal eRulemaking Portal. Follow the online instructions for submissions.

Docket: To read or download comments or other material in the docket, go to http://www.regulations.gov. Documents in the docket are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Instructions: All submissions must include the agency name and the OSHA docket number for this Federal Register notice (OSHA-2021-0010). OSHA will place comments, including personal information, in the public docket, which may be available online. Therefore, OSHA cautions interested parties about submitting personal information such as Social Security numbers and birthdates.

FOR FURTHER INFORMATION CONTACT:

Press inquiries: Mr. Frank Meilinger, Director, OSHA Office of Communications; telephone: (202) 693-1999; email: meilinger.francis2@dol.gov.

General information: Mr. Francis Yebesi, Director, OSHA Office of Federal Agency Programs; telephone (202) 693-2122; email ofap@dol.gov.

Copies of this Federal Register document: Electronic copies of this Federal Register document are available at http://www.regulations.gov. This document, as well as news releases and other relevant information are also available on the OSHA web page at http://www.osha.gov.

SUPPLEMENTARY INFORMATION: On September 30, 2021, President Joseph Biden signed Executive Order (E.O.) 14048 continuing or reestablishing certain federal advisory committees, including FACOSH, until September 30, 2023 (86 FR 55465 (10/05/2021)). In response, the Secretary reestablished FACOSH and the Department of Labor (DOL) filed the FACOSH charter on October 14, 2021. FACOSH will terminate on September 30, 2023, unless continued by the President. The FACOSH charter is available to read or download at https://www.osha.gov. In addition, the Secretary invites interested persons to submit nominations for membership on FACOSH. FACOSH is authorized to advise the Secretary on all matters relating to the occupational safety and health of federal employees (5 U.S.C. 7902; 29 U.S.C. 668, Executive Order 12196, as amended). This includes providing advice on how to reduce and keep to a minimum the number of injuries and illnesses in the federal workforce, and how to encourage the establishment and maintenance of effective occupational safety and health programs in each federal agency.

Notice of solicitation for nominations to serve on FACOSH was also published on October 22, 2021. The deadline for submission of nominations was 30 days from the date of publication, or November 22, 2021. The Secretary now extends the deadline for nomination to January 31, 2022.

Authority and Signature

James S. Frederick, Deputy Assistant Secretary of Labor for Occupational Safety and Health, directed the preparation of this notice pursuant to 5 U.S.C. 7902; 5 U.S.C. App. 2; 29 U.S.C. 668; E.O. 12196 (45 FR 12629 (2/27/1980)), as amended; 41 CFR part 102-3; and Secretary of Labor's Order 08-2020 (85 FR 58393).

Signed at Washington, DC, on November 23, 2021.
James S. Frederick,
Deputy Assistant Secretary of Labor for Occupational Safety and Health.

[FR Doc. 2021-25981 Filed 11-29-21; 8:45 am]

BILLING CODE 4510-26-P